DEPARTMENT OF THE INTERIOR

Bureau of Land Management

[OR-027-1020-PI-020H; G-05-0029]

Notice of Public Meetings, Steens Mountain Advisory Council

AGENCY: Department of the Interior, Bureau of Land Management (BLM), Burns District Office.

ACTION: Notice of public meetings for the Steens Mountain Advisory Council.

SUMMARY: In accordance with the Steens Mountain Cooperative Management and Protection Act (Steens Act) of 2000, Public Law 106-399, the Federal Land Policy and Management Act, and the Federal Advisory Committee Act of 1972, the U.S. Department of the Interior, BLM, Steens Mountain Advisory Council (SMAC) will meet as indicated below:

DATES: The SMAC will meet at the BLM, Burns District Office, 28910 Hwy 20 West, Hines, Oregon, 97738 on February 7 and 8, 2005 and April 18 and 19, 2005. Both meeting sessions will begin at 8 a.m., local time, and will end at approximately 4:30 p.m., local time.

SUPPLEMENTARY INFORMATION: The SMAC was appointed by the Secretary of the Interior on August 14, 2001, pursuant to the Steens Act and rechartered in August 2003. The SMAC's purpose is to provide representative counsel and advice to the BLM regarding (1) new and unique approaches to management of the land within the bounds of the Steens Mountain Cooperative Management and Protection Area (CMPA), (2) cooperative programs and incentives for landscape management that meet human needs, maintain and improve the ecological and economic integrity of the area, and (3) preparation and implementation of a management plan for the CMPA.

Topics to be discussed by the SMAC at these meetings include categories such as transportation, recreation/public use, wildlife, special designated areas, partnerships/programs, cultural resources, watersheds, projects, education, volunteer-based information, adaptive management, Steens Mountain CMPA Resource Management Plan implementation process, science committee/consultants, socioeconomics, and other matters that may reasonably come before the SMAC.

All meetings are open to the public in their entirety. Information to be distributed to the SMAC is requested at least 10 days prior to the start of each SMAC meeting. Public comment is generally scheduled for 11 a.m. to 11:30 a.m., local time, both days of each meeting session. The amount of time scheduled for public presentations and meeting times may be extended when the authorized representative considers it necessary to accommodate all who seek to be heard regarding matters on the agenda.

FOR FURTHER INFORMATION CONTACT: Additional information concerning the SMAC may be obtained from Rhonda Karges, Management Support Specialist, Burns District Office, 28910 Hwy 20 West, Hines, Oregon, 97738, call (541) 573-4400 or Rhonda_Karges@or.blm.gov or from the following Web site: http://www.or.blm.gov/Steens.

Dated: December 8, 2004.
Dana R. Shuford,
Burns District Manager.

[FR Doc. 04-27324 Filed 12-13-04; 8:45 am]

BILLING CODE 4310-33-P